DEPARTMENT OF COMMERCE

National Oceanic and Atmospheric Administration

[RTID 0648-XA718]

Endangered and Threatened Species; Take of Anadromous Fish

AGENCY: National Marine Fisheries Service (NMFS), National Oceanic and Atmospheric Administration (NOAA), Department of Commerce.

ACTION: Notice; availability of a proposed evaluation and pending determination and permit application for public comment.

SUMMARY: Notice is hereby given that a proposed evaluation and pending determination (PEPD) is available for public comment on a hatchery and genetic management plan (HGMP) for Skykomish River steelhead submitted under limit 6 of the Endangered Species Act (ESA) 4(d) Rule. NMFS is also making an ESA section 10(a)(1)(A) permit application available for public comment. The permit application is for a trap and haul operation at Sunset Falls, also on the Skykomish River in Washington State.

DATES: Comments must be received at the appropriate address (see ADDRESSES) no later than 5 p.m. Pacific time on January 21, 2021. Comments received after this date may not be considered.

ADDRESSES: Written comments on the PEPD and/or permit application should be addressed to Emi Melton; NMFS, West Coast Regional Office; 1201 NE Lloyd Blvd., Suite 1100, Portland, OR 97232. Comments may be submitted by email. The mailbox address for providing email comments is: hatcheries.public.comment@noaa.gov. Include in the subject line of the email comment the following identifier: Comments on Skykomish River PEPD and/or permit application.

The documents are available on the internet at: https://www.fisheries.noaa.gov/action/skykomish-summer-steelhead-hatchery-program-and-sunset-falls-trap-and-haul-program.

FOR FURTHER INFORMATION CONTACT: Emi Melton at (503) 736-4739 or by email at emi.melton@noaa.gov.

SUPPLEMENTARY INFORMATION

ESA-Listed Species Covered in This Notice

• Puget Sound Chinook Salmon (Oncorhynchus tshawytscha): threatened, naturally and artificially propagated

• Puget Sound Steelhead (Oncorhynchus mykiss): threatened, naturally and artificially propagated

Background

The Tulalip Tribes and Washington Department of Fish and Wildlife (collectively the co-managers) have submitted an HGMP to NMFS pursuant to limit 6 of the ESA 4(d) Rule for a summer steelhead hatchery program in the Skykomish River basin. The hatchery program is intended to contribute to fulfilling Federal tribal trust responsibilities and treaty rights guaranteed through treaties and affirmed in U.S. v. Washington (1974). It is also designed to contribute to the survival and recovery of Puget Sound steelhead and produce summer steelhead for sustainable fisheries.

Washington Department of Fish and Wildlife has also submitted an ESA section 10(a)(1)(A) permit application for a trap and haul program in the Skykomish River basin. The trap and haul program traps various species of salmon, steelhead, and trout, and hauls them above Sunset Falls to provide better habitat for these species.

Authority

16 U.S.C. 1531 et seq.; 16 U.S.C. 742a et seq.; § 222.303 also issued under 16 U.S.C. 1361 et seq.

Dated: December 17, 2020.
Angela Somma,
Chief, Endangered Species Conservation Division, Office of Protected Resources, National Marine Fisheries Service.

[FR Doc. 2020-28229 Filed 12-21-20; 8:45 am]

BILLING CODE 3510-22-P